ENVIRONMENTAL PROTECTION AGENCY

[EPA-HQ-OPPT-2016-0399 and EPA-HQ-OPPT-2016-0400; FRL-9949-52]

Processes for Risk Evaluation and Chemical Prioritization for Risk Evaluation Under the Amended Toxic Substances Control Act; Notice of Public Meetings and Opportunities for Public Comment

AGENCY: Environmental Protection Agency (EPA).

ACTION: Notice.

SUMMARY: EPA is holding two public meetings to obtain input into the Agency's development of processes for risk evaluation and chemical prioritization for risk evaluation under the Toxic Substances Control Act as amended by the Frank R. Lautenberg Chemical Safety for the 21st Century Act (TSCA). Information obtained during these meetings will be considered in the Agency's development of the proposed procedural regulations required under TSCA.

DATES: Meetings. For the chemical evaluation process, the meeting will be held on August 9, 2016 from 9:30 a.m. to 4:30 p.m.. For the process of prioritizing chemicals for risk evaluation, the meeting will be held on August 10, 2016 from 9:30 a.m. to 4:30 p.m.

Meeting Registration. Advance registration for each meeting must be completed no later than August 4, 2016. On-site registration will be permitted, but seating and speaking priority will be given to those who pre-register by the deadline.

Reasonable Accommodations. To request accommodation of a disability, please contact the technical person listed under FOR FURTHER INFORMATON CONTACT, preferably by August 1, 2016, to give EPA as much time as possible to process your request.

Comments. EPA will hear oral comments at each meeting, and will accept written comments and materials submitted to the applicable docket on or before August 17, 2016.

ADDRESSES: Meetings. The meetings will be held in the Horizon Ballroom at the Ronald Reagan Building and International Trade Center, 1300 Pennsylvania Avenue NW., Washington, DC 20004. The meetings will also be available by remote access for registered participants. For further information, see Unit III.A. under SUPPLEMENTARY INFORMATION.

Meeting registration. You may register online (preferred) or in person at the meeting. To register online, go to http://opptstakeholder.eventbrite.com.

Comments. Submit written comments and materials, identified by the relevant docket ID number, i.e., for the meeting on the process for risk evaluation, use docket ID EPA-HQ-OPPT-2016-0400; and for the meeting on the process of chemical prioritization for risk evaluation, use docket ID EPA-HQ-OPPT-2016-0399, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html. Additional instructions on commenting or visiting the docket, along with more information about dockets in general is available at http://www.epa.gov/dockets.

FOR FURTHER INFORMATION CONTACT:

For technical information contact: Chris Blunck, Office of Pollution Prevention and Toxics, Environmental Protection Agency, 1200 Pennsylvania Ave. NW., Washington, DC 20460-0001; telephone number: (202) 564-8078; email address: Blunck.Chris@epa.gov.

For meeting logistics or registration contact: Klara Zimmerman, Abt Associates; telephone number: (301) 634-1722; email address: Klara_Zimmerman@abtassoc.com.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general, and may be of interest to a wide range of stakeholders including chemical manufacturers, processors and users, consumer product companies, non-profit organizations in the environmental and public health sectors, state and local government agencies, and members of the public interested in the environmental and human health assessment and regulation of chemical substances. Since others also may be interested, the Agency has not attempted to describe all the specific entities that may be affected by this action.

B. How can I get copies of documents related to this meeting?

EPA has established two dockets for the meetings: For the meeting on the process for risk evaluation, use docket ID No. EPA-HQ-OPPT-2016-0400; and for the meeting on the process of chemical prioritization for risk evaluation, use docket ID No. EPA-HQ-OPPT-2016-0399. Both dockets are available either online at http://www.regulations.gov or in person at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets. Documents and meeting information will also be available at the registration Web site.

II. Background

On June 22, 2016, President Obama signed into law the Frank R. Lautenberg Chemical Safety for the 21st Century Act, which amended the Toxic Substances Control Act of 1976. The revised TSCA includes provisions that require EPA to develop by rule processes for risk evaluation and chemical prioritization for risk evaluation. Additional information on the revisions to TSCA can be found at https://www.epa.gov/assessing-and-managing-chemicals-under-tsca/frank-r-lautenberg-chemical-safety-21st-century-act.

Risk evaluation. The meeting on August 9, 2016 will be for the purpose of gathering information for EPA consideration in developing the rule required under TSCA section 6(b)(4). Under TSCA section 6(b)(4), not later than 1 year after the date of enactment (i.e., by June 21, 2017), EPA is required to establish by rule a process to conduct risk evaluations to determine whether a chemical substance presents an unreasonable risk of injury to health or the environment.

Prioritization for risk evaluations. The meeting on August 10, 2016 will be for the purpose of gathering information for EPA consideration in developing the rule required under TSCA section 6(b)(1). Under TSCA section 6(b)(1), EPA must within 1 year of enactment (i.e., by June 21, 2017) establish by rule a risk-based screening process, including criteria for designating chemical substances as high-priority for risk evaluations or low-priority for which risk evaluations are not warranted at the time.

III. Meeting

A. Remote Access

The meetings will be accessible remotely for registered participants. Registered participants will receive information on how to connect to the meetings prior to their start.

B. Public Participation at the Meeting

Members of the public may register to attend the meetings as observers and may also register to provide oral comments on the days of the meetings. A registered speaker is encouraged to focus on issues directly relevant to the particular meeting's subject matter. Each speaker is allowed no more than 5 minutes in each meeting. To accommodate as many registered speakers as possible, speakers may present oral comments only, without visual aids or written material. Persons registered to speak (as well as others) may submit written materials to the dockets as described under ADDRESSES.

IV. How can I request to participate in this meeting?

A. Registration

To attend a meeting in person or to receive remote access, please register no later than August 4, 2016, using one of the methods described under ADDRESSES. While on-site registration will be available, seating will be on a first-come, first-served basis, with priority given to early registrants, until room capacity is reached. The Agency anticipates that approximately 150 people will be able to attend each of the meetings in person. For registrants not able to attend in person, the meetings will also provide remote access capabilities; registered participants will be provided information on how to connect to the meetings prior to their start.

B. Required Registration Information

Members of the public may register to attend as observers or speak if planning to offer oral comments during the scheduled public comment periods. To register for the meetings online, you must provide your full name, organization or affiliation, and contact information.

Authority: 15 U.S.C. 2605.

Dated: July 20, 2016.
Jeffery T. Morris,
Acting Director, Office of Pollution Prevention and Toxics.

[FR Doc. 2016-17706 Filed 7-25-16; 8:45 am]

BILLING CODE 6560-50-P